DEPARTMENT OF COMMERCE

National Oceanic and Atmospheric Administration

50 CFR Part 622

[I.D. 111605A]

RIN 0648-AS15

Fisheries of the Caribbean, Gulf of Mexico, and South Atlantic; Shrimp Fishery of the Gulf of Mexico; Amendment 13

AGENCY: National Marine Fisheries Service (NMFS), National Oceanic and Atmospheric Administration (NOAA), Commerce.

ACTION: Availability of Fishery Management Plan amendment; request for comments.

SUMMARY: NMFS announces that the Gulf of Mexico Fishery Management Council (Council) has submitted Amendment 13 to the FMP for review, approval, and implementation by NMFS. Amendment 13 would revise Federal permitting requirements for the shrimp fishery of the Gulf of Mexico exclusive economic zone (EEZ), including the establishment of a moratorium on the issuance of Federal commercial shrimp vessel permits; revision of existing regulations regarding reporting and recordkeeping in the shrimp fishery; and establishment of stock status criteria for the various shrimp stocks. The intended effects of Amendment 13 are to stabilize participation in the shrimp fishery of the Gulf of Mexico EEZ and provide better information by which to manage the fishery.

DATES: Written comments must be received no later than 5 p.m., eastern time, on January 23, 2006.

ADDRESSES: You may submit comments by any of the following methods:

• E-mail: 0648-AS15.NOA@noaa.gov. Include in the subject line the following document identifier: 0648-AS15-NOA.

• Federal e-Rulemaking Portal: http://www.regulations.gov. Follow the instructions for submitting comments.

• Mail: Steve Branstetter, Southeast Regional Office, NMFS, 263 13th Avenue South, St. Petersburg, FL 33701.

• Fax: 727-824-5308, Attention: Steve Branstetter.

Copies of Amendment 13, which includes an Environmental Assessment, a Regulatory Impact Review, and an Initial Regulatory Flexibility Analysis, are available from the Gulf of Mexico Fishery Management Council, 2203 North Lois Avenue, Suite 1100, Tampa, FL 33607; phone: 813-348-1630; fax: 813-348-1711; e-mail: gulfcouncil@gulfcouncil.org.

FOR FURTHER INFORMATION CONTACT: Dr. Steve Branstetter, 727-824-5305; fax: 727-824-5308; e-mail: steve.branstetter@noaa.gov.

SUPPLEMENTARY INFORMATION: The Magnuson-Stevens Fishery Conservation and Management Act (Magnuson-Stevens Act) requires each Regional Fishery Management Council to submit any fishery management plan or amendment to NMFS for review and approval, disapproval, or partial approval. The Magnuson-Stevens Act also requires that NMFS, upon receiving a plan or amendment, publish an announcement in the Federal Register notifying the public that the plan or amendment is available for review and comment.

Amendment 13, if implemented, would establish a requirement for royal red shrimp vessels fishing in the Gulf of Mexico EEZ to possess a royal red shrimp endorsement to their Gulf of Mexico Federal shrimp vessel permit. The royal red shrimp fishery in the Gulf of Mexico is a very small component of the overall shrimp fishery, and there are very limited data on this fishery on which to make management decisions. Specifically identifying royal red shrimp harvesters through a permit endorsement would provide the opportunity to gather needed biological, social, and economic data to appropriately manage this fishery.

Amendment 13 proposes the establishment of a 10-year moratorium on the issuance of new Federal shrimp vessel permits. If implemented, permits under the moratorium would be fully transferable, allowing permittees the flexibility to enter or exit the fishery as they choose. To be eligible for a commercial shrimp vessel permit under the moratorium, vessels must have been issued a valid commercial shrimp vessel permit by NMFS prior to and including December 6, 2003. Additionally, an owner who sold his qualified vessel, had his qualified vessel repossessed, or otherwise lost use of his qualified vessel (i.e., damage, sinking, unaffordable repairs), but who obtained a valid commercial shrimp vessel permit for the same vessel or another vessel equipped for offshore shrimp fishing (at least 5 net tons) prior to the date of publication of the final rule implementing this amendment would be eligible to renew such permit under the moratorium.

Amendment 13, if implemented, would establish a standardized method to regularly monitor, report, and estimate the bycatch in the shrimp fishery of the Gulf of Mexico, in compliance with § 303(a)(11) of the Magnuson-Stevens Act. Amendment 13 proposes to establish a program whereby a sample of Federally permitted shrimp vessels would be equipped with electronic logbooks (ELBs) provided by NMFS, and a sample of Federally permitted shrimp vessels would carry observers. The ELB program would provide better information regarding effort, and the observer program would provide information on catch, effort, and bycatch. Amendment 13 also proposes to revise data collection requirements to include mandatory reporting of landings and vessel and gear characteristics.

Finally, to better comply with the Magnuson-Stevens Act requirements, Amendment 13 proposes to establish or modify biological reference points for brown, pink, and white shrimp, and stock status determination criteria for royal red shrimp. The Magnuson-Stevens Act requires that each FMP define reference points in the form of maximum sustainable yield (MSY) and optimum yield (OY), and specify objective and measurable criteria for identifying when the fishery is overfished and/or undergoing overfishing. Status determination criteria include a minimum stock size threshold (MSST) to indicate when a stock is overfished and a maximum fishing mortality threshold (MFMT) to indicate when a stock is undergoing overfishing. Together, these four parameters (MSY, OY, MSST, and MFMT) provide fishery managers with the tools to determine the status of a fishery at any given time and assess whether management measures are achieving established goals.

A proposed rule that would implement measures outlined in Amendment 13 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by January 23, 2006, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: November 17, 2005.
Alan D. Risenhoover,
Acting Director, Office of Sustainable Fisheries, National Marine Fisheries Service.

[FR Doc. 05-23203 Filed 11-22-05; 8:45 am]

BILLING CODE 3510-22-S